FEDERAL ACCOUNTING STANDARDS ADVISORY BOARD

Notice of Request for Comment on a Proposed Joint Exposure Draft, Implementation Guidance for Leases and Omnibus Amendments to Leases-Related Topics

AGENCY: Federal Accounting Standards Advisory Board.

ACTION: Notice.

Pursuant to 31 U.S.C. 3511(d), the Federal Advisory Committee Act, as amended (5 U.S.C. App.), and the FASAB Rules Of Procedure, as amended in October 2010, notice is hereby given that the Federal Accounting Standards Advisory Board (FASAB) has issued a joint exposure draft of a proposed Federal Financial Accounting Technical Release (TR) titled Implementation Guidance for Leases and a proposed Statement of Federal Financial Accounting Standards (SFFAS) titled Omnibus Amendments to Leases-Related Topics.

The exposure draft is available on the FASAB website at https://www.fasab.gov/documents-for-comment/. Copies can be obtained by contacting FASAB at (202) 512-7350.

Respondents are encouraged to comment on any part of the joint exposure draft. Written comments are requested by February 5, 2021, and should be sent to fasab@fasab.gov or Monica R. Valentine, Executive Director, Federal Accounting Standards Advisory Board, 441 G Street NW, Suite 1155, Washington, DC 20548.

FOR FURTHER INFORMATION CONTACT: Ms. Monica R. Valentine, Executive Director, 441 G Street NW, Suite 1155, Washington, DC 20548, or call (202) 512-7350.

Authority: Federal Advisory Committee Act (5 U.S.C. App.), 31 U.S.C. 3511(d).

Dated: November 10, 2020.
Monica R. Valentine,
Executive Director.

[FR Doc. 2020-26724 Filed 12-3-20; 8:45 am]

BILLING CODE 1610-02-P